SECURITIES AND EXCHANGE COMMISSION

Sunshine Act Meetings

FEDERAL REGISTER CITATION OF PREVIOUS ANNOUNCEMENTS: 85 FR 80875, December 14, 2020.

PREVIOUSLY ANNOUNCED TIME AND DATE OF THE MEETINGS: Wednesday, December 16, 2020 at 10:00 a.m.

CHANGES IN THE MEETING: The following item will not be considered during the Open Meeting on Wednesday, December 16, 2020:

2. The Commission will consider whether to adopt amendments under the Investment Advisers Act of 1940 (the “Advisers Act”) to update rules that govern investment adviser marketing to accommodate the continual evolution and interplay of technology and advice, while preserving investor protections. The Commission will also consider whether to adopt amendments to Form ADV to provide the Commission with additional information about advisers' marketing practices, and corresponding amendments to the books and records rule under the Advisers Act.

In addition, the following previously scheduled matter will be considered on December 21, 2020, during the Open Meeting:

3. The Commission will consider whether to approve a proposed rule change by New York Stock Exchange LLC to amend Chapter One of the Listed Company Manual to modify the provisions relating to direct listings.

CONTACT PERSON FOR MORE INFORMATION: For further information and to ascertain what, if any, matters have been added, deleted or postponed, please contact the Office of the Secretary at (202) 551-5400.

Dated: December 14, 2020.
Vanessa A. Countryman,
Secretary.

[FR Doc. 2020-27867 Filed 12-15-20; 11:15 am]

BILLING CODE 8011-01-P